DEPARTMENT OF HEALTH AND HUMAN SERVICES

Office of the Secretary

[Document Identifier: HHS-OS-0990-0221-60D]

Agency Information Collection Activities; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before June 6, 2016.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier 0990-0221-60D for reference.

Information Collection Request Title: Title X Family Planning Annual Report.

Abstract: The Office of Population Affairs within the Office of the Assistant Secretary for Health seeks to renew the currently approved Family Planning Annual Report (FPAR) data collection and reporting tool (OMB No. 0990-0221). This annual reporting requirement is for family planning services delivery projects authorized and funded by the Title X Family Planning Program [“Population Research and Voluntary Family Planning Programs” (Public Law 91-572)], which was enacted in 1970 as Title X of the Public Health Service Act (Section 1001; 42 U.S.C. 300). The FPAR data collection and reporting tool remains unchanged in this request to renew OMB approval to collect essential, annual data from Title X grantees.

Need and Proposed Use of the Information: The Title X Family Planning Program (“Title X program” or “program”) is the only Federal grant program dedicated solely to providing individuals with comprehensive family planning and related preventive health services (e.g., screening for breast and cervical cancer, sexually transmitted diseases (STDs), and human immunodeficiency virus). By law, priority is given to persons from low-income families (Section 1006[c] of Title X of the Public Health Service Act, 42 U.S.C. 300). The Office of Population Affairs (OPA) within the Office of the Assistant Secretary for Health administers the Title X program.

Annual submission of the FPAR is required of all Title X family planning services grantees for purposes of monitoring and reporting program performance (45 CFR part 74 and 45 CFR part 92). The FPAR is the only source of annual, uniform reporting by all grantees funded under Section 1001 of the Title X Public Health Service Act. The FPAR provides consistent, national-level data on the Title X Family Planning program and its users that allow OPA to assemble comparable and relevant program data to answer questions about the characteristics of the population served, use of services offered, composition of revenues that complement Title X funds, and impact of the program on key health outcomes.

Likely Respondents: Respondents for this annual reporting requirement are centers that receive funding directly from OPA for family planning services authorized and funded under the Title X Family Planning Program [“Population Research and Voluntary Family Planning Programs” (Pub. L. 91-572)], which was enacted in 1970 as Title X of the Public Health Service Act (Section 1001 of Title X of the Public Health Service Act, 42 United States Code [U.S.C.] 300).

Total Estimated Annualized Burden—Hours
Type of respondent | Form name | Number of respondents | Number of responses per respondent | Average annualized burden per response (hours) | Annualized total burden (hours)
Grantees | FPAR | 93 grantees | 1 | 36 | 3,348
Totals |  | 93 |  |  | 3,348

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2016-07964 Filed 4-6-16; 8:45 am]

BILLING CODE 4150-34-P